GENERAL SERVICES ADMINISTRATION

[OMB Control No. 3090-0080; Docket No. 2024-0001; Sequence No. 4]

Information Collection; General Services Administration Acquisition Regulation; Release of Claims for Construction and Building Service Contracts

AGENCY: Office of Acquisition Policy, General Services Administration (GSA).

ACTION: Notice of request for public comments regarding an extension to an existing OMB clearance.

SUMMARY: Under the provisions of the Paperwork Reduction Act, the Regulatory Secretariat Division will be submitting to the Office of Management and Budget (OMB) a request to review and approve an extension of a previously approved information collection regarding release of claims for final payment under construction and building services contracts.

DATES: Submit comments on or before: July 15, 2024.

ADDRESSES: Submit comments identified by Information Collection 3090-0080, Release of Claims for Construction and Building Service Contracts, via http://www.regulations.gov. Submit comments via the Federal eRulemaking portal by searching the OMB control number 3090-0080. Select the link “Comment Now” that corresponds with “Information Collection 3090-0080, Release of Claims for Construction and Building Service Contracts”. Follow the instructions provided on the screen. Please include your name, company name (if any), and “Information Collection 3090-0080, Release of Claims for Construction and Building Service Contracts” on your attached document.

Instructions: Please submit comments only and cite Information Collection 3090-0080, Release of Claims for Construction and Building Service Contracts, in all correspondence related to this collection. Comments received generally will be posted without change to regulations.gov, including any personal and/or business confidential information provided. To confirm receipt of your comment(s), please check regulations.gov, approximately two-to-three days after submission to verify posting.

FOR FURTHER INFORMATION CONTACT: Mr. Bryon Boyer, Procurement Analyst, at gsarpolicy@gsa.gov or 817-850-5580.

SUPPLEMENTARY INFORMATION:

A. Purpose

The General Services Administration Acquisition Regulation (GSAR) requires construction and building services contractors to submit a release of claims before final payment is made to ensure contractors are paid in accordance with their contract requirements and for work performed. GSA Form 1142, Release of Claims is used to achieve uniformity and consistency in the release of claims process.

B. Annual Reporting Burden

Respondents: 1,427.

Responses per Respondent: 1.

Annual Responses: 1,427.

Hours per Response: 0.50.

Total Burden Hours: 714.

C. Public Comments

Public comments are particularly invited on: Whether this collection of information is necessary for the proper performance of functions of the GSAR, and whether it will have practical utility; whether our estimate of the public burden of this collection of information is accurate, and based on valid assumptions and methodology; and ways to enhance the quality, utility, and clarity of the information to be collected; and ways in which we can minimize the burden of the collection of information on those who are to respond, through the use of appropriate technological collection techniques or other forms of information technology.

Obtaining Copies of Proposals: Requesters may obtain a copy of the information collection documents from the Regulatory Secretariat Division (MVCB), at GSARegSec@gsa.gov.

Please cite OMB Control No. 3090-0080; Release of Claims for Construction and Building Service Contracts, in all correspondence.

Jeffrey A. Koses,
Senior Procurement Executive, Office of Acquisition Policy, Office of Government-wide Policy.

[FR Doc. 2024-10636 Filed 5-14-24; 8:45 am]

BILLING CODE 6820-61-P